DEPARTMENT OF AGRICULTURE

Agricultural Marketing Service

[Doc. No. AMS-FV-11-0004; FV11-916/917-3 NC]

Marketing Orders for Nectarines and Peaches Grown in California; Notice of Request for New Information Collection

AGENCY: Agricultural Marketing Service, USDA.

ACTION: Notice and request for comments.

SUMMARY: In accordance with the Paperwork Reduction Act of 1995 (44 U.S.C. chapter 35), this notice announces the Agricultural Marketing Service's (AMS) intention to request approval for new forms to be used to collect information related to Federal marketing orders for nectarines and peaches grown in California.

DATES: Comments on this notice must be received by April 26, 2011 to be assured of consideration.

Additional Information: Contact Andrew Hatch, Supervisory Marketing Specialist, Marketing Order Administration Branch, Fruit and Vegetable Programs, AMS, USDA, 1400 Independence Avenue SW., STOP 0237, Room 1406-S, Washington, DC 20250-0237; Telephone: (202) 720-6862, Fax: (202) 720-8938, E-mail: andrew.hatch@ams.usda.gov.

Small businesses may request information on this notice by contacting Antoinette Carter, Marketing Order Administration Branch, Fruit and Vegetable Programs, AMS, USDA, 1400 Independence Avenue SW., STOP 0237, Room 1406-S, Washington, DC 20250-0237; Telephone (202) 690-3919, Fax: (202) 720-8938, or E-mail: antoinette.carter@ams.usda.gov.

Comments: Comments should reference the document number and the date and page number of this issue of the Federal Register, and be mailed to the Docket Clerk, Fruit and Vegetable Programs, AMS, USDA, 1400 Independence Avenue SW., Room 1406-S, Washington, DC 20250-0237; Fax: (202) 720-8938; or submitted through the Internet at http://www.regulations.gov.

SUPPLEMENTARY INFORMATION: Title: Marketing Orders for Nectarines and Peaches.

OMB Number: 0581-NEW.

Expiration Date of Approval: None.

Type of Request: Approval of new information collection.

Abstract: Marketing orders provide an opportunity for producers of fresh fruits, vegetables and specialty crops, in specified production areas, to work together to solve marketing problems that cannot be solved individually. Among the 32 active Federal marketing orders are programs for nectarines and peaches grown in California. Regulations may determine the products' grade, size and quality; set container and pack requirements; and authorize research and market development projects. The nectarine and peach marketing orders are locally administered by staff of the California Tree Fruit Agreement (CTFA) under USDA's supervision.

Order regulations help ensure adequate supplies of high quality product and adequate returns to producers. Under the Agricultural Marketing Agreement Act of 1937 (Act) as amended (7 U.S.C. 601-674), industries enter into marketing order programs. The Secretary of Agriculture is authorized to oversee the order operations and issue regulations recommended by a committee of representatives from each commodity industry.

The State of California, under its own regulations, managed separate marketing orders for nectarines and peaches grown in their State. However, following a vote conducted by the California Department of Food and Agriculture on November 24, 2010, industry members opted to terminate the State nectarine and peach marketing orders, effective on February 28, 2011. Consequently, CTFA and USDA are proposing to absorb five previous State forms into the Federal package of forms so that necessary industry information can still be collected.

The currently-approved forms contained in OMB Number 0581-0189 are used by industry committees operating the following marketing order programs under citations 7 CFR parts: 905 (Florida citrus), 906 (Texas citrus), 915 (Florida avocados), 916 (California nectarines), 917 (California peaches and pears), 920 (California kiwifruit), 922 (Washington apricots), 923 (Washington cherries), 924 (Oregon/Washington prunes), 925 (California table grapes), 927 (Oregon/Washington pears), and 929 (cranberries grown in 10 States).

Approval of five new forms is necessary to continue collecting information required by the nectarine and peach marketing orders. Once approved, they will be merged into the generic fruit crop package, approved by OMB under 0581-0189. The forms used under the now terminated State programs would be reformatted and used in the continuing Federal marketing orders. The information collection requirements in this request are essential to carry out the intent of the Act, to provide the respondents the type of service they request, and to administer the marketing order programs.

The forms would facilitate the collection of industry information and are titled “Daily Packout Report,” “Export Peach Destination Report,” “Grower Report,” “Nectarine Shipment Report,” and “Peach Shipment Report.” The forms covered under this information collection require the minimum information necessary to effectively carry out the requirements of the orders. The information collected is used only by authorized employees of the USDA, including AMS, Fruit and Vegetable Programs' regional and headquarters' staff. Authorized CTFA employees are the primary users of the information and AMS is the secondary user.

Estimate of Burden: Public reporting burden for this collection of information is estimated to average .025 hours per response.

Respondents: Handlers.

Estimated Number of Respondents: 97.

Estimated Number of Responses: 11,170.

Estimated Number of Responses per Respondent: 126.

Estimated Total Annual Burden on Respondents: 2,878.70 hours.

Comments are invited on: (1) Whether the proposed collection of the information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

All responses to this notice will be summarized and included in the request for OMB approval. All comments will also become a matter of public record. All comments received will be available for public inspection at the street address in the “Comment” section and can be viewed at: http://www.regulations.gov.

Dated: February 18, 2011.
Rayne Pegg,
Administrator, Agricultural Marketing Service.

[FR Doc. 2011-4266 Filed 2-24-11; 8:45 am]

BILLING CODE 3410-02-P